DEPARTMENT OF ENERGY

Federal Energy Regulatory Commission

[Docket No. RP03-472-000]

Black Marlin Pipeline Company; Notice of Tariff Filing

May 13, 2003.

Take notice that on May 7, 2003, Black Marlin Pipeline Company (Black Marlin) tendered for filing as part of its FERC Gas Tariff, Original Volume No. 1, the following revised tariff sheets to be effective July 1, 2003:

Third Revised Sheet No. 108A

Sixth Revised Sheet No. 200

First Revised Sheet No. 211C

Third Revised Sheet No. 213.01

Fifth Revised Sheet No. 213B

Fourth Revised Sheet No. 213D

Fifth Revised Sheet No. 217

Third Revised Sheet No. 219

Fourth Revised Sheet No. 220

Sheet No. 314

Sheet Nos. 315-318

Sheet No. 319

Sheet Nos. 320-328

Sheet No. 329

Sheet No. 330

Black Marlin states that this filing is made in part for administrative purposes and in part as a housekeeping matter to clarify, update and clean up several items in Black Marlin's tariff.

Black Marlin further states that copies of the filing have been mailed to each of its customers, interested State Commissions and other interested persons.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 19, 2003.

Magalie R. Salas,
Secretary.

[FR Doc. 03-12442 Filed 5-16-03; 8:45 am]

BILLING CODE 6717-01-P